DEPARTMENT OF TRANSPORTATION

Research and Special Programs Administration

Office of Hazardous Materials Safety Notice of Applications for Modification of Exemption

AGENCY: Research and Special Programs Administration, DOT.

ACTION: List of applications for modification of exemption.

SUMMARY: In accordance with the procedures governing the application for, and the processing of, exemptions from the Department of Transportation's Hazardous Material Regulations (40 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” denote a modification request. These applications have been separated from the new application for exemption to facilitate processing.

DATES: Comments must be received on or before March 12, 2004.

Address Comments To: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on February 20, 2004.
R. Ryan Posten,
Exemptions Program Officer, Office of Hazardous Materials Exemptions & Approvals.

Modification Exemptions
Application No. | Docket No. | Applicant | Modification of exemption | Nature of exemption thereof
6530-M |  | Air Products and Chemicals, Inc., Allentown, PA | 6530 | To modify the exemption to authorize the transportation of a Division 2.2 material in a DOT Specification 3A, 3AA, 3AX, or 3AAX steel cylinder.
7946-M |  | Imaging & Sensing Technology Corporation, Horseheads, NY | 7946 | To modify the exemption to authorize a volume increase beyond 45 cubic inches with a corresponding decrease in pressure (charge) of the non-DOT specification, non-refillable packaging described as a radiation detector assembly.
7954-M |  | Air Products and Chemicals, Inc., Allentown, PA | 7954 | To modify the exemption to authorize an update of the pressure relief device, manifolding and pressure requirements for the transportation of Division 2.2 and 2.3 materials in DOT Specification cylinders.
8228-M |  | U.S. Department of Justice (FBI), Quantico, VA | 8228 | To modify the exemption to authorize the transportation of small quantities of unapproved explosive substances or articles to local government laboratories.
11054-M |  | Welker Engineering Company, Sugar Land, TX | 11054 | To modify the exemption to increase the rated working pressure from 1800psi to 2160psi and the hydrostatic test pressure to 3600psi for the CP-5 non-DOT specification cylinder.
11329-M |  | DEGESCH AMERICA, INC., Weyers Cave, VA | 11329 | To modify the exemption to authorize two additional outer packagings for the transportation of Division 4.3 and 6.1 materials.
11624-M |  | Envirotech Systems, Inc., Lynnwood, WA | 11624 | To modify the exemption to authorize the transportation of waste materials from conditionally exempt small quantity generators and categorically exempt household hazardous waste generators that do not meet the definition of “hazardous waste”.
12613-M | RSPA-01-8702 | NOVA Chemicals Corporation, Red Deer, AB | 12613 | To modify the exemption to authorize the transportation of an additional Class 3 material in a DOT Specification 112J340W tank car.
12988-M | RSPA-02-12215 | Air Products and Chemicals, Inc., Allentown, PA | 12988 | To modify the exemption to authorize a design change of the non-DOT specification cynlinder.
12938-M | RSPA-02-11912 | Northrop Grumman Space Technology (Former Grantee: TRW, Inc.), Redondo Beach, CA | 12938 | To modify the exemption to authorize the transportation of a Division 2.1 and additional Division 2.2 material in non-DOT specification containers and DOT Specification cylinders installed in the EOS-PM (AQUA) Satellite or attached to the EOS Satellite Transporter.
13207-M | RSPA-03-15068 | BEI Hawaii, Honolulu, HI | 13207 | To modify the exemption to authorize the use of two additional IM 101 tanks for the transportation of a Class 8 material.
13246-M | RSPA-03-15625 | McLane Company, Inc., Temple, TX | 13246 | To modify the exemption to authorize the use of additional plastic outer packagings for the transportation of a Division 2.1 material.

[FR Doc. 04-4283 Filed 2-25-04; 8:45 am]

BILLING CODE 4909-60-M